SOCIAL SECURITY ADMINISTRATION

[Docket No: SSA-2025-0001]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235.

Fax: 833-410-1631.

Email address: OR.Reports.Clearance@ssa.gov.

Or you may submit your comments online through https://www.reginfo.gov/public/do/PRAmain by clicking on Currently under Review—Open for Public Comments and choosing to click on one of SSA's published items. Please reference Docket ID Number [SSA-2025-0001] in your submitted response.

I. SSA submitted the information collections below to OMB for clearance. Your comments regarding these information collections would be most useful if OMB and SSA receive them 30 days from the date of this publication. To be sure we consider your comments, we must receive them no later than February 7, 2025. Individuals can obtain copies of these OMB clearance packages by writing to the OR.Reports.Clearance@ssa.gov.

1. Integrated Registration Services (IRES) System—20 CFR 401.45—0960-0626. IRES is an internet-based application that replaces the respondent's handwritten paper-based signature with a user identification number (User ID) and a password. IRES provides registration, authentication, and authorization gateway services for Business-to-Government (B2G) suites of services, including, but not limited to:

a. Business Services Online (BSO)

Claimant Representative Services

b. Government Services Online (GSO) (OMB#0960-0757)

Office of Child Support Enforcement (OCSE) Services

Secure exchange of information between SSA and third parties in support of SSA and other federal government-supported programs

c. Customer Support Application (CSA)

CSA provides customer support service for IRES. CSA allows users to complete the registration process via a telephone interview with a Social Security customer service representative.

The IRES System verifies the identity of individuals, businesses, organizations, entities, and government agencies seeking to use SSA's secured internet and telephone applications. Individuals need this verification to electronically request and exchange business data with SSA. Requestors provide SSA with the information needed to establish their identities. Once SSA verifies identity, the IRES system issues the requestor a user identification number and a password to conduct business with SSA. Respondents are employers; employees; third party submitters of wage data business entities providing taxpayer identification information; appointed representatives; representative payees; and data exchange partners conducting business in support of SSA programs.

Type of Request: Revision of an OMB-approved information collection.

Modality of completion | Number of respondents | Frequency of response | Average burden per response (minutes) | Estimated total annual burden (hours) | Average theoretical hourly cost amount (dollars) * | Total annual opportunity cost (dollars) **
IRES Internet Registrations | 266,210 | 1 | 5 | 22,184 | * $37.63 | ** $834,784
IRES Internet Requestors | 14,472,710 | 1 | 2 | 482,424 | * 37.63 | ** 18,153,615
IRES CS (CSA) Registrations | 2,216 | 1 | 11 | 406 | * 37.63 | ** 15,278
Totals | 14,741,136 |  |  | 505,014 |  | ** 19,003,677
* We based this figure on average U.S. citizen's hourly salary, as reported by Bureau of Labor Statistics data (https://www.bls.gov/oes/current/oes_nat.htm); hourly wages for Information and Record Keeping Analysts hourly salary, as reported by Bureau of Labor Statistics data. (https://www.bls.gov/oes/current/oes434199.htm); and average hourly wages for paralegals/legal assistants and lawyers as posted by the U.S. Bureau of Labor Statistics (https://www.bls.gov/oes/current/oes_nat.htm).
** This figure does not represent actual costs that SSA is imposing on recipients of Social Security payments to complete this application; rather, these are theoretical opportunity costs for the additional time respondents will spend to complete the application. There is no actual charge to respondents to complete the application.

2. Notification of a Social Security Number (SSN) to an Employer for Wage Reporting Purposes—20 CFR 422.103(a)—0960-0778. Individuals applying for employment must provide a SSN or indicate they have applied for one. However, when an individual applies for an initial SSN, there is a delay between the assignment of the number and the delivery of the SSN card. At an individual's request, SSA uses Form SSA-132 to send the individual's SSN to an employer. Mailing this information to the employer: (1) ensures the employer has the correct SSN for the individual; (2) allows SSA to receive correct earnings information for wage reporting purposes; and (3) reduces the delay in the initial SSN assignment and delivery of the SSN information directly to the employer. It also enables SSA to verify the employer as a safeguard for the applicant's personally identifiable information. The respondents are individuals applying for an initial SSN who ask SSA to mail confirmation of their application or the SSN to their employers.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-132 | 361,902 | 1 | 5 | 30,159 | * $31.48 | ** 24 | *** $5,506,482
* We based this figure on the average U.S. worker's hourly wages, as reported by Bureau of Labor Statistics data (https://www.bls.gov/oes/current/oes_nat.htm).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

Dated: January 2, 2025
Naomi Sipple,
Reports Clearance Officer, Social Security Administration.

[FR Doc. 2025-00128 Filed 1-7-25; 8:45 am]

BILLING CODE 4191-02-P